DEPARTMENT OF TRANSPORTATION

Federal Aviation Administration

14 CFR Part 39

[Docket No. FAA-2013-0523; Directorate Identifier 2012-SW-091-AD]

RIN 2120-AA64

Airworthiness Directives; Eurocopter France Helicopters

AGENCY: Federal Aviation Administration (FAA), DOT.

ACTION: Notice of proposed rulemaking (NPRM).

SUMMARY: We propose to adopt a new airworthiness directive (AD) for Eurocopter France (Eurocopter) Model AS350B, AS350BA, AS350B1, AS350B2, AS350B3, AS350C, AS350D, AS350D1, AS355E, AS355F, AS355F1, AS355F2, AS355N, and AS355NP helicopters with sliding doors, except those with modification AL.4262. This proposed AD would require removing from service certain part-numbered nuts and washers from the lower ball-joint bolt. This proposed AD is prompted by a report of a sliding door detaching from the helicopter in flight. The proposed actions are intended to prevent loss of the lower ball-joint nut, which could lead to loss of the sliding door and damage to the helicopter.

DATES: We must receive comments on this proposed AD by August 19, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone 817-222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2012-0205, dated October 1, 2012 (AD 2012-0205), to correct an unsafe condition for Eurocopter Model AS350B, AS350BA, AS350BB, AS350B1, AS350B2, AS350B3, AS350D, AS355E, AS355F, AS355F1, AS355F2, AS355N, and AS355NP helicopters with a sliding door installed, except those with modification AL.4262. EASA advises that during a patrol flight with the doors open, the right-hand (RH) sliding door became detached and was lost in-flight. EASA states it was discovered that the nut of the ball-joint bolt was missing, which allowed the ball-joint bolt to detach from the door and the door to “fall off” the aircraft. According to EASA, a check of the left-hand (LH) sliding door revealed that the nut of the ball-joint bolt was not tightened, and could be unscrewed by hand. EASA advises that the self-locking characteristics of the nut were lost, possibly due to a defective assembly of the ball-joint bolt by re-using a disposable part or improper nut tightening, and is assumed to be the reason for the ball-joint attachment failure and loss of the sliding door. This failure of the self-locking characteristics of the nut could lead to loss of the sliding door in-flight, potentially resulting in damage of the surrounding helicopter structure and possible injury to persons on the ground. For these reasons, EASA issued AD 2012-0205 to require modification AL.4262, which specifies replacing each nut, part number (P/N) ASN52320BH060N, and washer, P/N 23111AG0LE, with nut, P/N 22542K060, and lock-washer, P/N 23351AC060LE, on the lower ball-joint bolt.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other helicopters of the same type design.

Related Service Information

Eurocopter has issued Alert Service Bulletin (ASB) No. AS350-52.00.34 for Model AS350 B, B1, B2, B3, BA, BB, D, and L1 helicopters and ASB No. AS355-52.00.26 for Model AS355 E, F, F1, F2, N, and NP helicopters, both Revision 0 and both dated July 9, 2012. The ASBs describe procedures to replace the nuts and lock-washers on the LH and RH sliding door lower ball-joint bolts with different part numbered nuts and lock-washers, to “double lock” the lower ball-joint bolts. Eurocopter designates the maintenance procedure and design change in its ASBs as modification AL.4262.

Proposed AD Requirements

This proposed AD would require removing from service each nut, P/N ASN52320BH060N, and each washer, P/N 23111AG0LE, within 165 hours time-in-service (TIS) and replacing them with an airworthy nut and washer.

Differences Between This Proposed AD and the EASA AD

The EASA AD requires replacing the lower ball-joint nut and washer within 165 flight hours or 13 calendar months, while this proposed AD would require replacing the affected lower ball joint nut and washer within 165 hours TIS. In addition, this proposed AD would not apply to the Model AS350BB as that helicopter is not type-certificated in the U.S., but it would apply to Models AS350C and AS350D1 because those models have a similar lower ball joint nut and washer.

Costs of Compliance

We estimate that this proposed AD would affect 900 helicopters of U.S. Registry. We estimate that operators may incur the following costs in order to comply with this AD. At an average labor rate of $85 per hour, replacing the nuts and washers on the sliding doors would require about 1 work-hour, and required parts costs would be minimal, for a cost per helicopter of $85 and a total cost to U.S. operators of $76,500.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eurocopter France: Docket No. FAA-2013-0523; Directorate Identifier 2012-SW-091-AD.

(a) Applicability

This AD applies to Eurocopter France (Eurocopter) Model AS350B, AS350BA, AS350B1, AS350B2, AS350B3, AS350C, AS350D, AS350D1, AS355E, AS355F, AS355F1, AS355F2, AS355N, and AS355NP helicopters with sliding doors installed, except those with modification AL.4262, certificated in any category.

(b) Unsafe Condition

This AD defines the unsafe condition as loss of the self-locking feature of the sliding door lower ball-joint nut. This condition could result in detachment of the lower ball-joint bolt from the sliding door and subsequent loss of the sliding door from the helicopter in flight.

(c) Reserved

(d) Compliance

You are responsible for performing each action required by this AD within the specified compliance time unless it has already been accomplished prior to that time.

(e) Required Actions

(1) Within 165 hours time-in-service, remove each nut, part number (P/N) ASN52320BH060N, and each washer, P/N 23111AG0LE, from the left-hand and right-hand sliding door lower ball-joint bolts and replace them with an airworthy nut and washer.

(2) Do not install a nut, P/N ASN52320BH060N, or washer, P/N 23111AG0LE, on any sliding door lower ball-joint bolt.

(f) Special Flight Permit

Special flight permits are prohibited.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone 817-222-5110; email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) Eurocopter Alert Service Bulletin (ASB) No. AS350-52.00.34 for Model AS350B, B1, B2, B3, BA, BB and D and L1 helicopters and ASB No. AS355-52.00.26 for Model AS355E, F, F1, F2, N, and NP helicopters, both Revision 0 and both dated July 9, 2012, which are not incorporated by reference, contain additional information about the subject of this AD. For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

(2) The subject of this AD is addressed in European Aviation Safety Agency (EASA) AD No. 2012-0205, dated October 1, 2012.

(i) Subject

Joint Aircraft Service Component (JASC) Code: 5200: Doors.

Issued in Fort Worth, Texas, on June 13, 2013.
Kim Smith,
Directorate Manager, Rotorcraft Directorate, Aircraft Certification Service.

[FR Doc. 2013-14703 Filed 6-19-13; 8:45 am]

BILLING CODE 4910-13-P